DEPARTMENT OF AGRICULTURE

Animal and Plant Health Inspection Service

[Docket No. APHIS-2011-0102]

Privacy Act of 1974; System of Records

AGENCY: Animal and Plant Health Inspection Service, USDA.

ACTION: Notice of a modified system of records.

SUMMARY: Pursuant to the Privacy Act of 1974 and Office of Management and Budget Circular No. A-108, the U.S. Department of Agriculture (USDA) gives notice that a component agency, the Animal and Plant Health Inspection Service (APHIS), proposes to modify an existing system of records notice titled Veterinary Services—Animal Welfare, USDA/APHIS-8. Among other changes, the system will be renamed Animal Welfare Act and Horse Protection Act, USDA/APHIS-8.

DATES: In accordance with 5 U.S.C. 552a(e)(4) and (11), this notice is applicable upon publication, subject to a 30-day notice and comment period in which to comment on the routine uses described below. Please submit any comments by November 25, 2019.

ADDRESSES: You may submit comments by either of the following methods:

• Federal eRulemaking Portal: Go to: http://www.regulations.gov/#!docketDetail;D=APHIS-2011-0102.

• Postal Mail/Commercial Delivery: Send your comment to Docket No. APHIS-2011-0102, Regulatory Analysis and Development, PPD, APHIS, Station 3A-03.8, 4700 River Road Unit 118, Riverdale, MD 20737-1238.

Supporting documents and any comments we receive on this docket may be viewed at http://www.regulations.gov/#!docketDetail;D=APHIS-2011-0102 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Mr. Tola Liv, Information Systems Security Manager, Animal Care, APHIS, 4700 River Road Unit 84, Riverdale, MD 20737; (301) 851-3741. For Privacy Act questions concerning this system of records notice, please contact Ms. Tonya Woods, Director, Freedom of Information Act/Privacy Act, 4700 River Road Unit 50, Riverdale, MD 20737; (301) 851-4076. For USDA Privacy Act questions, please contact the USDA Chief Privacy Officer, Information Security Center, Office of Chief Information Officer, USDA, Jamie L. Whitten Building, 1400 Independence Ave. SW, Washington, DC 20250; email: USDAPrivacy@ocio.usda.gov.

SUPPLEMENTARY INFORMATION:

I. The Privacy Act

The Privacy Act of 1974, as amended (5 U.S.C. 552a), embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents.

The Privacy Act requires each agency to publish in the Federal Register a description denoting the type and character of each system of records that the agency maintains, including the routine uses for each system, to inform individuals how and why Privacy Act information may be disclosed outside of the agency.

II. Discussion

The U.S. Department of Agriculture (USDA) Animal and Plant Health Inspection Service (APHIS) is modifying an existing system of records notice for Veterinary Services-Animal Welfare, USDA/APHIS-8, which was last published on February 27, 1987, in its entirety in the Federal Register (52 FR 6031, Docket No. 86-408). APHIS is modifying the system of records notice to rename the system as “Animal Welfare Act and Horse Protection Act, USDA/APHIS-8.” APHIS is also expanding the system to include records of activities conducted by regulated entities and the agency pursuant to the Animal Welfare Act (AWA, 7 U.S.C. 2131-2159) and the Horse Protection Act (HPA, 15 U.S.C. 1821-1831), and the regulations issued thereunder.

APHIS is making the following changes to the system of records notice:

• Updating the system location and system manager;

• Expanding the categories of individuals to include additional individuals who participate in activities related to the AWA as well as individuals who participate in activities related to the HPA or who are otherwise identified in HPA or AWA related records;

• Expanding the categories of records to include additional records relating to the AWA and HPA;

• Revising the record source categories to reflect records relating to the HPA;

• Updating the policies and practices for storage, retrievability, and retention and disposal of records in the system;

• Updating the system safeguards;

• Updating the notification, record access, and contesting record procedures;

• Revising, deleting, redesignating, and establishing routine uses as follows:

○ Deleting current routine use 1, which will be clarified and replaced by newly established routine uses;

○ Revising current routine use 2 and redesignating it as routine use 12. The changes are editorial and intended to more accurately describe the referral of records to appropriate law enforcement agencies, entities and persons;

○ Revising current routine use 3 and redesignating it as routine use 13. The changes are editorial and conforming changes;

○ Revising current routine use 4 and redesignating it as routine use 14. The changes are editorial and intended to more accurately describe the disclosure of records to a court or adjudicative body;

○ Revising current routine use 5 and redesignating it as routine use 19. The changes are editorial and conforming changes;

○ Establishing new routine use 1 for disclosure of licensee and registrant information to the public pursuant to 9 CFR 2.38(c) and 9 CFR 2.127;

○ Establishing new routine use 2 for disclosure of annual report information to the public pursuant to 9 CFR 2.7 and 9 CFR 2.36;

○ Establishing new routine use 3 for disclosure of information from inspection reports and regulatory correspondence to attending veterinarians in order to carry out duties under the AWA pursuant to 9 CFR 2.33 and 9 CFR 2.40;

○ Establishing new routine use 4 for disclosure of information to other public authority agencies or officials to carry out duties under the AWA or under laws on the same subject pursuant to 7 U.S.C. 2145(b);

○ Establishing new routine use 5 for disclosure of inspection reports and permit status to entities such as pet stores to the extent required to comply with a State, local, Tribal or other public authority's requirement to verify compliance with the AWA;

○ Establishing new routine use 6 for disclosure of information to a research institution to complete research or compile a report in furtherance of USDA's mission;

○ Establishing new routine use 7 for disclosure of final adjudicatory decisions and orders to any person;

○ Establishing new routine use 8 for disclosure to any person of information identifying Designated Qualified Persons and Horse Industry Organizations (HIOs) or associations;

○ Establishing new routine use 9 for disclosure of HPA inspection findings and correspondence to any regulated horse owner, HIO, and other entities responsible for licensure or required to verify compliance with the HPA;

○ Establishing new routine use 10 for disclosure to any person of information identifying a person or entity who has been disqualified, suspended, and/or otherwise prohibited from participating in certain activities under the HPA;

○ Establishing new routine use 11 for disclosure to any person of information identifying any regulated entity or individual whose AWA license or permit has been suspended, revoked, expired, terminated, or denied;

○ Establishing new routine use 15 for disclosure to appropriate agencies, entities and persons of information necessary to respond to a suspected or confirmed breach of the system of records in accordance with Office of Management and Budget (OMB) Memorandum M-17-12, Preparing for and Responding to a Breach of Personally Identifiable Information (January 3, 2017);

○ Establishing new routine use 16 for disclosure to another Federal agency or entity of information reasonably necessary to assist in responding to a suspected or confirmed breach or to prevent, minimize, or remedy harm, in accordance with OMB Memorandum M-17-12;

○ Establishing new routine use 17 for disclosure to USDA contractors and other parties assisting in administering the program, analyzing data, information management systems, Freedom of Information Act requests, and audits;

○ Establishing new routine use 18 for disclosure to USDA contractors and others employed to identify fraud, waste, or abuse;

○ Establishing new routine use 20 for disclosure to the National Archives and Records Administration or to the General Services Administration for records management activities; and

○ Establishing new routine use 21 for disclosure to the Treasury Department to carry out any and all functions within their jurisdiction, including but not limited to, processing payments, fees, collections, penalties, and offsets.

A report on the modified system of records, required by 5 U.S.C. 552a(r), as implemented by Office of Management and Budget Circular A-108 was sent to the Chairman, Committee on Homeland Security and Governmental Affairs, United States Senate; the Chairman, Committee on Oversight and Reform, House of Representatives; and the Administrator, Office of Information and Regulatory Affairs, Office of Management and Budget.

Done in Washington, DC, this 18th day of October 2019.
Kevin Shea,
Administrator, Animal and Plant Health Inspection Service.

SYSTEM NAME AND NUMBER:

Animal Welfare Act and Horse Protection Act, USDA/APHIS-8

SECURITY CLASSIFICATION:

Sensitive but unclassified.

SYSTEM LOCATION:

Paper-based records are located in the APHIS offices at 4700 River Rd, Riverdale, MD; 920 Main Campus Drive Suite 200, Raleigh, NC; and 2150 Centre Avenue, Building B, Mailstop 3W11, Fort Collins, CO. The server for the electronic database is currently located in the United States Department of Agriculture's (USDA or Department) National Information Technology Center (NITC), 8930 Ward Parkway, Kansas City, MO 64114, but may be relocated to a similarly secure location, as needed. A backup site for the electronic data is located in the NITC Disaster Recovery, 4300 Goodfellow Blvd., St. Louis, MO 63120, but may be relocated to a similarly secure location, as needed.

SYSTEM MANAGER:

Deputy Administrator, Animal Care, APHIS, 4700 River Road, Unit 84, Riverdale, MD 20737.

AUTHORITY FOR MAINTENANCE OF THE SYSTEM:

The Animal Welfare Act (AWA), 7 U.S.C. 2131 et seq., and the regulations issued thereunder, 9 CFR parts 1 through 4; and the Horse Protection Act (HPA), 15 U.S.C. 1821 et seq., and the regulations issued thereunder, 9 CFR parts 11 and 12.

PURPOSES OF THE SYSTEM:

This system supports APHIS' administrative activities and enforcement of the AWA and HPA.

The AWA seeks to ensure the humane handling, care, treatment, and transportation of animals intended for use by dealers, exhibitors, carriers, research facilities, operators of auction sales, and intermediate handlers. The entities using certain animals for research purposes, exhibition, and transportation in commerce, or for resale use as a pet are required to obtain a license or registration from the USDA. In addition, entities importing dogs into the United States for resale purposes are required to obtain a permit. APHIS partners with Federal agencies, States, local and Tribal governments and non-governmental organizations to ensure the safety, health and well-being of vulnerable animals.

The HPA prohibits the showing, sale, auction, exhibition, and transportation of horses that have been subject to the practice of soring, which is a cruel and inhumane practice designed to enhance a horse's competitive advantage in shows and exhibitions. The HPA also holds the management of any horse show or other regulated event responsible for identifying sore horses and preventing their participation in the event. To be shielded from liability for the participation of a sore horse, management may appoint and retain persons qualified to detect and diagnose a horse that is sore or otherwise inspect horses for purposes of enforcing the HPA. After notice and an opportunity for a hearing in accordance with the applicable rules of practice, alleged violators of the HPA may be subject to penalties and sanctions for violations. APHIS partners with Federal agencies, States, local and Tribal governments and non-governmental organizations to ensure that horses are not subjected to the practice of soring.

This system provides a standard approach to collecting, recording, analyzing, maintaining, and reporting information.

CATEGORIES OF INDIVIDUALS COVERED BY THE SYSTEM:

Individuals covered by the system include persons operating or intending to operate as dealers, exhibitors, operators of auction sales, research facilities, intermediate handlers, and carriers under the AWA; individuals who import dogs into the United States for resale purposes; individuals associated with the management of Department-certified Horse Industry Organizations and Associations (HIOs); persons who are qualified to detect and diagnose a horse that is sore or otherwise inspect horses for purposes of enforcing the HPA; management of horse shows, exhibitions, sales, and auctions regulated under the HPA; alleged violators and adjudicated violators of the AWA and HPA and regulations issued thereunder; and other individuals who participate in inspection and enforcement activities relating to AWA and HPA, such as APHIS inspectors, APHIS Investigative and Enforcement Services investigators, licensee employees/representatives, attorneys, witnesses, complainants, etc.

CATEGORIES OF RECORDS IN THE SYSTEM:

Animal Welfare Act Records:

The system includes paper and electronic records that include:

Licensing and registration records, including, but not limited to, name and business or home address, telephone number, and other contact information; tax identification number, customer number, license or registration certificate number; licensee and research facility annual reports related to persons who seek or hold an AWA license or registration, persons responsible to ensure humane care of the animals (e.g., attending veterinarians) located at AWA regulated facilities; payment details such as name, last four digits of credit card and expiration date, or check numbers and amount for those who have applied for a license or renewal of a license requiring a payment; and other records required for regulatory purposes under the AWA.

Compliance records, including, but not limited to, inspection reports, itineraries, enforcement actions, and other compliance records required to be maintained by the facility and supporting documents, compliance- and enforcement-related activities, and other records required for regulatory purposes under the AWA.

Regulatory correspondence, including, but not limited to, information related to the denial or termination of a license or permit, and notices or advisories regarding alleged violations or noncompliance with the AWA, records related to administrative and court litigation, correspondence between APHIS and a licensee/registrant/permitee or applicant, and other records required for regulatory purposes under the AWA.

Complaint records, including, but not limited to, witness or person who has submitted information, and statements of alleged violations and violations by persons who are subject to the AWA.

Permit records, including, but not limited to, name, address, and other contact information for the permittee, permit application, health certificate, rabies vaccination certificate, etc.; and other records required for regulatory purposes under the AWA.

Horse Protection Act Records:

The system includes paper and electronic records that include:

Management records, including, but not limited to, name, business and/or home address, other contact information for managers or other management representatives, sponsoring organizations, persons designated to maintain management records, show judges, etc.; details of events and locations, including, but not limited to, dates and addresses; and other records required for regulatory purposes under the HPA.

Transporter records, including, but not limited to, name, address, and other contact information of the horse owner and the shipper, the trainer, the carrier transporting the horse, the driver of the means of conveyance used; the origin of the shipment and date thereof and the destination of shipment; and other records required for regulatory purposes under the HPA.

HIO records, including, but not limited to, the name, address, and other contact information of each certified HIO, and officers or persons charged with the management of the HIO; the HIO's formal request for certification and detailed outline for such program submitted for Departmental approval, rulebooks and industry-implemented disciplinary procedures, and associated correspondence; the name and address of any person qualified to detect and diagnose a horse that is sore or to otherwise inspect horses for purposes of enforcing the HPA or the management of any horse show, exhibition, sale, or auction; identity of all horses at each event that management disqualified or excused for any reason, including the registered name of each horse and the name and address of the owner, trainer, rider, exhibitor, or other person having custody of or responsibility for the care of each such horse; the exhibitor's number and class number, or the sale or auction tag number of the horse, the name and any applicable registered name and number (if the horse is registered), age, sex, color, and markings of the horse; disciplinary actions taken by the HIO against any exhibitor; photographs and videos depicting inspections conducted by HIO-licensed designated qualified persons; HIO performance evaluations and statistics; and other records required for regulatory purposes under the HPA.

Designated qualified persons records (persons qualified to detect and diagnose a horse that is sore or to otherwise inspect horses for purposes of enforcing the HPA) including, but not limited to, the name, address, other contact information, and license number of each person who applies and/or is licensed to inspect horses in accordance with the HPA and regulations, information related to the disqualification of a person from holding a license to detect soreness in horses, and correspondence, including notice of performance concerns or license cancellation; details of inspections and identity of all horses at each event that the person recommended to management be disqualified or excused for any reason, including the registered name of each horse and the name and address of the owner, trainer, rider, exhibitor, or other person having custody of or responsibility for the care of each such horse; the exhibitor's number and class number, or the sale or auction tag number of the horse, the name and any applicable registered name and number (if the horse is registered), age, sex, color, and markings of the horse; photographs and videos depicting inspections conducted by designated qualified persons; performance evaluations and statistics; and other records required for regulatory purposes under the HPA.

Compliance and regulatory correspondence records, including, but not limited to, inspection findings, compliance, regulatory and other correspondence, investigations, and enforcements under the HPA, as well as records related to administrative, civil, and criminal litigation; and other records required for regulatory purposes under the HPA.

Complaint records, including, but not limited to, the name and address of a witness or person who has submitted a complaint concerning potential alleged violations and violations by persons who are subject to the HPA and the nature of their complaint.

RECORD SOURCE CATEGORIES:

The AWA information is received from the applicant for a license, registration, or permit; the licensee, registrant, or permittee; the attending veterinarian; observations by APHIS inspectors; APHIS Investigative and Enforcement Services officials; or other person responsible for or who has information about the humane care of the animals. The HPA information is received from the HIO and other entities that issue licenses; the HIO records submitted to APHIS; the management of the horse show, exhibition, auction, or sale; the horse event management records submitted to APHIS; records submitted to APHIS by persons qualified to detect and diagnose a horse that is sore or otherwise inspect horses for purposes of enforcing the HPA; and the horse owner, trainer, custodian, rider, shipper, carrier, and transporter. Information may also be received from the witness or person who has submitted a complaint concerning potential alleged violations and violations by persons who are subject to the AWA or HPA.

ROUTINE USES OF RECORDS MAINTAINED IN THE SYSTEM, INCLUDING CATEGORIES OF USERS AND PURPOSES OF SUCH USES:

In addition to those disclosures generally permitted under 5 U.S.C. 552a (b) of the Privacy Act, records maintained in the system may be disclosed outside USDA as follows:

(1) APHIS may disclose the name, city, State, license or registration type and/or status, or change of a license or registrant to any person pursuant to 9 CFR 2.38(c) and 2.127;

(2) APHIS may disclose annual reports submitted to APHIS by licensees and research facilities to any person pursuant to 9 CFR 2.7 and 2.36;

(3) APHIS may disclose inspection reports and other regulatory correspondence issued to licensees and registrants [from the agency] to any attending veterinarian in order to carry out duties under the AWA pursuant to 9 CFR 2.33 and 2.40;

(4) APHIS may disclose the name, telephone number and other contact information, location, inspection reports, and regulatory and other correspondence of licensees, registrants, permitees, and applicants for the same, to appropriate Federal, foreign, State, local, Tribal, or other public authority agencies or officials, in order to carry out duties under the AWA or State, local, Tribal or other public authority on the same subject pursuant to 7 U.S.C. 2145(b);

(5) APHIS may disclose inspection reports of licensees and registrants, and permit status, to any pet store or other entity that is required under State, local, Tribal, or other public authority to verify a licensee, registrant, or permitee's compliance with the AWA;

(6) APHIS may disclose information to the National Academies of Sciences, Engineering, and Medicine, and any other research institution engaged or approved by the Department, to the extent APHIS deems the disclosure necessary to complete research and/or compile a report in furtherance of the Department's mission;

(7) APHIS may disclose final adjudicatory AWA and HPA decisions or orders by an appropriate authority to any person;

(8) APHIS may disclose to any person the name, city, and State or other information to the extent necessary for proper identification of persons (referred to as “Designated Qualified Persons” or “DQPs”) that are or have been qualified to detect and diagnose a horse that is sore or otherwise inspect horses for purposes of enforcing the HPA and of horse industry organizations or associations (referred to as “HIOs”) that have currently or have had in the past DQP programs certified by the USDA;

(9) APHIS may disclose to any regulated horse owner, HIO, and other entities responsible for licensure or required to verify compliance with the HPA, HPA inspection findings and regulatory and other correspondence issued to persons or entities regulated under the HPA;

(10) APHIS may disclose to any person the name, city, and State or other information to the extent necessary for proper identification of any person or entity who has been disqualified, suspended, and/or otherwise prohibited from showing or exhibiting any horse, or judging or managing any horse show, horse exhibition, horse sale, or horse auction under the HPA and the terms of such action;

(11) APHIS may disclose to any person the name, city, and State or other information to the extent necessary for proper identification of any regulated individual or entity whose license or permit has been suspended, revoked, expired, terminated, or denied under the AWA and the terms of such action;

(12) APHIS may disclose to appropriate law enforcement agencies, entities, and persons, whether Federal, foreign, State, local, or Tribal, or other public authority responsible for enforcing, investigating, or prosecuting an alleged violation or a violation of law or charged with enforcing, implementing, or complying with a statute, rule, regulation, or order issued pursuant thereto, when a record in this system on its face, or in conjunction with other records, indicates a violation or potential violation of law, whether civil, criminal, or regulatory in nature, and whether arising by general statute or particular program statute, or by regulation, rule, or court order issued pursuant thereto, if the information disclosed is relevant to any enforcement, regulatory, investigative, or prosecutive responsibility of the receiving entity;

(13) APHIS may disclose to the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(14) APHIS may disclose information in this system of records to a court or adjudicative body in administrative, civil, or criminal proceedings when: (a) The agency or any component thereof; or (b) any employee of the agency in his or her official capacity; or (c) any employee of the agency in his or her individual capacity where the agency has agreed to represent the employee; or (d) the United States Government, is a party to litigation or has an interest in such litigation, and by careful review, the agency determines that the records are to be for a purpose that is compatible with the purpose for which the agency collected the records;

(15) APHIS may disclose information from this system of records to appropriate agencies, entities, and persons when: (a) USDA suspects or has confirmed that there has been a breach of the system of records; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(16) APHIS may disclose information from this system of records to another Federal agency or Federal entity, when the USDA determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach;

(17) APHIS may disclose information in this system of records to USDA contractors and other parties engaged to assist in administering the program, analyzing data, developing information management systems, processing Freedom of Information Act requests, and conducting audits. Such contractors and other parties will be bound by the nondisclosure provisions of the Privacy Act;

(18) APHIS may disclose information in this system of records to USDA contractors, partner agency employees or contractors, or private industry employed to identify patterns, trends, or anomalies indicative of fraud, waste, or abuse;

(19) APHIS may disclose information in this system of records to a Congressional office from the record of an individual in response to any inquiry from that Congressional office made at the written request of the individual to whom the record pertains;

(20) APHIS may disclose information in this system of records to the National Archives and Records Administration or to the General Services Administration for records management activities conducted under 44 U.S.C. 2904 and 2906; and

(21) APHIS may disclose information in this system of records to the Treasury Department as necessary to carry out any and all functions within their jurisdiction, including but not limited to, processing payments, fees, collections, penalties, and offsets.

DISCLOSURE TO CONSUMER REPORTING AGENCIES:

None.

POLICIES AND PRACTICES FOR STORAGE OF RECORDS:

Paper-based records are maintained in USDA offices and buildings that are locked during non-business hours and that require presentation of employee identification for admittance and access at all times. Electronic records are maintained in an electronic database on a server in a secure data center or on the APHIS web server and website that is maintained by APHIS' Marketing and Regulatory Programs Information Technology staff. Information Technology personnel maintain backup media.

POLICIES AND PRACTICES FOR RETRIEVAL OF RECORDS:

Records in this system maintained pursuant to the AWA and regulations may be retrieved by legal name; certificate/license/permit number, or customer identification number, and the complaint number; and the name of the witness or person who has submitted a complaint concerning potential alleged violations and violations by persons who are subject to the AWA.

Records maintained pursuant to the HPA and regulations may be retrieved by the name of the alleged violator or violator (owner, trainer, rider, custodian, exhibitor, transporter, horse carrier, shipper); the name of the judge, farrier, or the HIO; the name of the person qualified to detect and diagnose a horse that is sore or otherwise inspect horses for purposes of enforcing the HPA; the name and date of the horse show, exhibition, sale, or auction, address, horse name, the name of the stable; date and type of alleged violation or violation; HIO ticket or other similar number; and date and type of HIO disciplinary action; and the name of the witness or person who has submitted a complaint concerning potential alleged violations and violations by persons who are subject to the HPA.

POLICIES AND PRACTICES FOR RETENTION AND DISPOSAL OF RECORDS:

Paper and electronic records will be retained in accordance with an established records retention schedule. Some records considered as permanent will be maintained in accordance with NARA requirements.

ADMINISTRATIVE, TECHNICAL, AND PHYSICAL SAFEGUARDS:

Access to the restricted portions of the database system requires certain levels of authorization through USDA eAuthentication, which is a system that enables individuals to obtain user-identification accounts with password-protected access to certain USDA Web-based applications and services through the internet. APHIS personnel who input data must have a high-level eAuthentication account. Persons who apply for a license, registration, or permit or are licensed, registered or permitted pursuant to the AWA have a lower level eAuthentication account and will only have access to their own records to input certain information. These individuals can also apply for, pay, or check the status of their applications, and their license, registration, or permit status. HIOs and persons qualified to detect and diagnose a horse that is sore or otherwise inspect horses for purposes of enforcing the HPA will only have access to input certain information in their own records, such as but not limited to information entered in the system by HIOs regarding disciplinary actions taken and information on sore horses that were disqualified or prohibited by management from participating in shows, exhibitions, sales, or auctions. The general public will have read-only access to system generated reports through APHIS' website and will require eAuthentication.

RECORD ACCESS PROCEDURES:

An individual who is the subject of a record in this system may seek access to those records that are not exempt from the access provisions. Exemptions apply only to the extent that the information in the system is subject to exemption pursuant to 5 U.S.C. 552a(k)(2), if applicable. A determination whether a record may be accessed will be made at the time a request is received. All inquiries should be addressed under “Notification procedures.”

CONTESTING RECORD PROCEDURES:

Individuals seeking to contest or amend information maintained in the system should direct their requests to the address indicated in the “Notification procedures” section, below. Some information may be exempt from the amendment provisions, as described in the section entitled “Exemptions promulgated for the system.” An individual who is the subject of a record in this system may seek amendment of those records that are not exempt. A determination whether a record may be amended will be made at the time a request is received.

NOTIFICATION PROCEDURES:

Individuals seeking notification of and access to any non-exempt general information contained in this system of records, or seeking to contest its content, may submit a request in writing to the APHIS Freedom of Information Act (FOIA) Officer, whose contact information can be found at https://www.aphis.usda.gov/aphis/resources/foia. If an individual believes more than one component maintains Privacy Act records concerning him or her the individual may submit the request to the Chief FOIA Officer, Department of Agriculture, 1400 Independence Avenue SW, Washington, DC 20250.

When seeking records about yourself from this system of records or any other Departmental system of records your request must conform with the Privacy Act regulations set forth in 7 CFR part 1, subpart G. In addition you should provide the following:

An explanation of why you believe the Department would have information on you;

• Identify which component(s) of the Department you believe may have the information about you;

• Specify when you believe the records would have been created;

• Provide any other information that will help the FOIA staff determine which USDA component agency may have responsive records; and

• If your request is seeking records pertaining to another living individual, you must include a statement from that individual certifying his or her agreement for you to access his or her records.

Without this bulleted information the component(s) will not be able to conduct an effective search, and our request may be denied due to lack of specificity or lack of compliance with applicable regulations.

EXEMPTIONS PROMULGATED FOR THE SYSTEM:

None.

HISTORY:

On February 27, 1987 (52 FR 6031), USDA/APHIS-8, “Veterinary Services—Animal Welfare” was published as a new system of records and effective on April 28, 1987.

[FR Doc. 2019-23210 Filed 10-23-19; 8:45 am]

BILLING CODE 3410-34-P